ENVIRONMENTAL PROTECTION AGENCY

[FRL-9208-9]

Clean Water Act; Contractor Access to Confidential Business Information

AGENCY: Environmental Protection Agency (EPA).

ACTION: Notice.

SUMMARY: The Environmental Protection Agency's (EPA) Office of Water intends to transfer information collected from the construction and development industry and claimed as confidential business information (CBI) to The Cadmus Group (Cadmus) and its subcontractor. In addition, EPA plans to transfer CBI collected from the steam electric industry to a new subcontractor of a contractor, Eastern Research Group (ERG). EPA previously announced a CBI transfer to ERG (70 FR 9070, February 24, 2005). The information being transferred will be collected under the authority of section 308 of the CWA. Transfer of the information will allow the contractors and subcontractors to access information necessary to support EPA in the planning, development, and review of effluent limitations guidelines and standards under the Clean Water Act (CWA). Interested persons may submit comments on this intended transfer of information to the address noted below.

DATES: Comments on the transfer of data are due October 7, 2010.

ADDRESSES: Comments may be sent to Mr. M. Ahmar Siddiqui, Document Control Officer, Engineering and Analysis Division (4303T), Room 6231S EPA West, U.S. EPA, 1200 Pennsylvania Ave, NW., Washington, DC 20460.

FOR FURTHER INFORMATION CONTACT: Mr. M. Ahmar Siddiqui, Document Control Officer, at (202) 566-1044, or via e-mail at siddiqui.ahmar@epa.gov.

SUPPLEMENTARY INFORMATION: EPA has transferred CBI to various contractors and subcontractors over the history of the effluent guidelines program. EPA determined that this transfer was necessary to enable the contractors and subcontractors to perform their work in supporting EPA in planning, developing, and reviewing effluent guidelines and standards for certain industries.

Today, EPA is giving notice that it has awarded a task order, Task Order 21, under a multiple award contract, contract number EP-C-08-002, to Cadmus located in Watertown, Massachusetts. The purpose of this contract is to secure technical analysis support for EPA in its development, review, implementation, and defense of controls for stormwater discharges, including those from municipal separate storm sewer systems (MS4s). To obtain assistance in responding to this contract, Cadmus has entered into a contract with a subcontractor, Geosyntec Consultants, located in Brookline, Massachusetts.

In addition, EPA is giving notice today that one of its contractors, ERG, contract number 68-C-02-095, has entered into a contract with a new subcontractor, Avanti Corporation, located in Alexandria, Virginia. The purpose of this new subcontractual relationship is to provide technical support for EPA in its development, review, implementation, and defense of controls for discharges from the steam electric industry.

All EPA contractor, subcontractor, and consultant personnel are bound by the requirements and sanctions contained in their contracts with EPA and in EPA's confidentiality regulations found at 40 CFR Part 2, Subpart B. Information submitted under a claim of business confidentiality is handled in accordance with EPA's regulations at 40 CFR part 2, subpart B and in accordance with EPA procedures, including comprehensive system security plans (SSPs), that are consistent with those regulations. When EPA has determined that disclosure of information claimed as CBI to contractors is necessary, the corresponding contract must address the appropriate use and handling of the information by the contractor and the contractor must require its personnel who require access to information claimed as CBI to sign written non-disclosure agreements before they are granted access to data.

Cadmus will adhere to EPA-approved security plans which describe procedures to protect CBI. Cadmus will apply the procedures in these plans to CBI previously gathered by EPA and to CBI that may be gathered in the future. The security plans specify that contractor personnel are required to sign non-disclosure agreements and are briefed on appropriate security procedures before they are permitted access to CBI. No person is automatically granted access to CBI: a need to know must exist.

Dated: September 27, 2010.
Ephraim S. King,
Director, Office of Science and Technology.

[FR Doc. 2010-24569 Filed 9-29-10; 8:45 am]

BILLING CODE 6560-50-P